DEPARTMENT OF ENERGY

Federal Energy Regulatory Commission

[Docket No. RM12-3-000]

Revisions to Electric Quarterly Report Filing Process; Notice of Availability of Sandbox Electronic Test Site

Take notice that a Sandbox Electronic Test Site (ETS) and instructions have been posted on the Commission's Web site at http://www.ferc.gov/docs-filing/eqr.asp.

Order No. 770 ¹ revised the method for making Electric Quarterly Report (EQR) filings. One of the new methods for filing is through a Web interface. The ETS provides an opportunity to use this new method on a trial basis until September 1, 2013.

¹ Revisions to Electric Quarterly Report Filing Process, Order No. 770, 77 FR 71288 (Nov. 30, 2012), FERC Stats. & Regs. ¶ 31,338 (2012).

Staff invites users to email comments and questions concerning the ETS to eqr@ferc.gov. Please include “Sandbox Electronic Test Site” in the subject line of any such emails.

Further, market participants are encouraged to sign up for the Commission's RSS feed to ensure timely receipt of new and additional information concerning the filing of EQRs. Such information often will not be conveyed through notices such as this one.

Dated: July 12, 2013.
Nathaniel J. Davis, Sr.,
Deputy Secretary.

[FR Doc. 2013-17307 Filed 7-18-13; 8:45 am]

BILLING CODE 6717-01-P